NUCLEAR REGULATORY COMMISSION

Sunshine Act Meetings

AGENCY HOLDING THE MEETINGS: Nuclear Regulatory Commission [NRC-2012-0002].

DATE: Weeks of December 3, 10, 17, 24, 31; 2012, January 7, 2013.

PLACE: Commissioners' Conference Room, 11555 Rockville Pike, Rockville, Maryland.

STATUS: Public and Closed.

Week of December 3, 2012

Thursday, December 6, 2012

9:25 a.m. Affirmation Session (Public Meeting) (Tentative)

(a) Entergy Nuclear Generation Co. and Entergy Nuclear Operations, Inc. (Pilgrim Nuclear Power Station), Jones River Watershed Association and Pilgrim Watch Petition for Review of Memorandum and Order (Denying Petition for Intervention and Request to Reopen Proceeding and Admit New Contention) LBP-12-11, June 18, 2012 (July 3, 2012) (Tentative)

(b) Final Rule: Revisions to Environmental Review for Renewal of Nuclear Power Plant Operating Licenses (10 CFR part 51; RIN 3150-AI42) (Tentative)

This meeting will be webcast live at the Web address— www.nrc.gov.

9:30 a.m. Meeting with the Advisory Committee on Reactor Safeguards (ACRS) (Public Meeting) (Contact: Ed Hackett, 301-415-7360)

This meeting will be webcast live at the Web address— www.nrc.gov.

Week of December 10, 2012—Tentative

There are no meetings scheduled for the week of December 10, 2012.

Week of December 17, 2012—Tentative

There are no meetings scheduled for the week of December 17, 2012.

Week of December 24, 2012—Tentative

There are no meetings scheduled for the week of December 24, 2012.

Week of December 31, 2012—Tentative

There are no meetings scheduled for the week of December 31, 2012.

Week of January 7, 2013—Tentative

Tuesday, January 8, 2013

9:00 a.m. Briefing on Fort Calhoun (Public Meeting) (Contact: Michael Hay, 817-200-1527)

This meeting will be webcast live at the Web address— www.nrc.gov.

* * * * *

* The schedule for Commission meetings is subject to change on short notice. To verify the status of meetings, call (recording)—301-415-1292. Contact person for more information: Rochelle Bavol, 301-415-1651.

* * * * *

Additional Information

The Briefing on Fort Calhoun previously scheduled on October 30, 2012, has been rescheduled on January 8, 2013.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: November 29, 2012.
Rochelle C. Bavol,
Policy Coordinator, Office of the Secretary.

[FR Doc. 2012-29373 Filed 11-30-12; 4:15 pm]

BILLING CODE 7590-01-P